DEPARTMENT OF COMMERCE

National Oceanic and Atmospheric Administration

50 CFR Part 660

[Docket No. 220510-0113; RTID 0648-XC188]

Fisheries Off West Coast States; Modification of the West Coast Salmon Fisheries; Inseason Actions #16 Through #25

AGENCY: National Marine Fisheries Service (NMFS), National Oceanic and Atmospheric Administration (NOAA), Commerce.

ACTION: Inseason modification of 2022 management measures.

SUMMARY: NMFS announces ten inseason actions in the 2022 ocean salmon fisheries. These inseason actions modify the commercial and recreational ocean salmon fisheries in the area from the U.S./Canada border to the U.S./Mexico border.

DATES: The effective dates for the inseason actions are set out in this document under the heading “Inseason Actions” and the actions remain in effect until superseded or modified.

FOR FURTHER INFORMATION CONTACT: Shannon Penna at 562-980-4239, Email: Shannon.Penna@noaa.gov.

SUPPLEMENTARY INFORMATION:

Background

The 2022 annual management measures for ocean salmon fisheries (87 FR 29690, May 16, 2022), announced management measures for the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial and recreational salmon fisheries, as set out under the heading Inseason Action below.

Consultations with the Council Chairperson on these inseason actions occurred on June 22, 2022, June 28, 2022, June 30, 2022, and July 8, 2022. Representatives from NMFS, Washington Department of Fish and Wildlife (WDFW), Oregon Department of Fish and Wildlife (ODFW), California Department of Fish and Wildlife (CDFW) and Council staff participated in these consultations. Members of the Salmon Advisory Subpanel and Salmon Technical Team were also present on the calls.

These inseason actions were announced on NMFS's telephone hotline and U.S. Coast Guard radio broadcast on the date of the consultations (50 CFR 660.411(a)(2)).

Inseason Actions

Inseason Action #16

Description of the action: Inseason action #16 modifies the recreational salmon fishery from the U.S./Canada border to Cape Alava, WA (Neah Bay subarea), from a two salmon per day bag limit to two salmon per day, only one of which may be a Chinook salmon, beginning at 12:01 a.m. on June 24, 2022.

Effective date: Inseason action #16 took effect on June 24, 2022, and remains in effect until superseded.

Reason and authorization for the action: More than 12 percent of the Chinook salmon guideline was caught on the first two days of the recreational salmon fishery season (June 18-June 19, 2022). Inseason action #16 was necessary to reduce Chinook salmon catch to preserve the length of the season while avoiding exceedance of the Chinook salmon guideline and maximizing catch of the available coho salmon quota.

The NMFS West Coast Regional Administrator (RA) considered the landings of Chinook salmon and fishery effort in the NOF recreational salmon fishery occurring to date as well as anticipated under the proposal, quotas and guidelines set preseason, and the recreational Chinook salmon guideline remaining. The RA determined that this inseason was necessary to preserve the available recreational Chinook salmon guideline in the Neah Bay subarea in order to meet management goals set preseason, including the Pacific Coast Salmon Fishery Management Plan's (FMP) goal. The modification of recreational bag limits is authorized by 50 CFR 660.409(b)(1)(iii).

Inseason Action #17

Description of the action: Inseason action #17 modifies the commercial salmon troll fishery north of Cape Falcon previously closed from June 15-June 30, 2022. This fishery is now scheduled to re-open on June 23, 2022, at 12:01 a.m. through 11:59 p.m. June 29, 2022, with a landing and possession limit of 13 Chinook salmon per vessel.

Effective date: Inseason action #17 took effect on June 23, 2022, and remains in effect until June 29, 2022.

Reason and authorization for the action: The total Chinook salmon landings in the area from the U.S./Canada border to Cape Falcon, OR, are estimated to be 17,468 Chinook salmon out of the May-June 2022 quota of 18,000 Chinook salmon leaving a remainder of 532 Chinook salmon quota. Inseason action was necessary to allow opportunity to catch the remainder of the Chinook salmon quota, while limiting catch to ensure that the quota is not exceeded.

The RA considered the landings of Chinook salmon and fishery effort in the NOF commercial salmon fishery occurring to date as well as anticipated under the proposal, the amount of quota remaining, and the timing of the action relative to the length of the season, and determined that this inseason action was necessary to avoid exceeding the subarea quotas set preseason and provide greater fishing opportunities. Inseason actions to modify quotas and fishing seasons is authorized under 50 CFR 660.409(b)(1)(i) and (iii).

Inseason Action #18

Description of the action: Retention of halibut caught incidental to the commercial salmon troll fishery (U.S./Canada border to the U.S./Mexico border) is extended past June 30, 2022, and remains in effect until superseded.

Effective date: Inseason action #18 took effect on July 1, 2022, and remains in effect until superseded.

Reason and authorization for the action: The 2022 salmon management measures (87 FR 29690, May 16, 2022) authorize the retention of Pacific halibut caught incidental to the commercial salmon troll fishery in 2022 during April, May, and June, and after June 30, 2022, if quota remains and is announced on the NMFS telephone hotline for salmon fisheries. The 2022 incidental Pacific halibut quota for the commercial salmon troll fishery is 44,599 pounds (head off), leaving 76.1 percent of the quota unharvested as of June 28, 2022.

The RA considered the landed catch of Pacific halibut to date and the amount of quota remaining, and determined that this inseason action was necessary to meet management goals set preseason for catch sharing of halibut. Inseason modification of the species that may be caught and landed during specific seasons is authorized by 50 CFR 660.409(b)(1)(ii).

Inseason Action #19

Description of the action: Inseason action #19 modifies the Chinook salmon landing and possession limit for the commercial salmon troll fishery across the entire north of Cape Falcon area, regardless of subarea, to: 50 Chinook salmon per vessel starting 12:01 a.m. July 1 through 11:59 p.m. July 6, 2022; and 40 Chinook salmon per vessel per landing week (Thursday through Wednesday) starting 12:01 a.m. July 7, 2022.

Effective date: Inseason action #19 took effect on July 1, 2022, and remains in effect until superseded.

Reason and authorization for the action: This action was taken to extend the season length and allow access to the Chinook and coho salmon quota. The RA considered the landings of Chinook and coho salmon to date, fishery catch and effort to date, the amount of quota remaining, and the timing of the action relative to the length of the season, and determined that this inseason action was necessary to avoid exceeding the subarea quotas set preseason and provide greater fishing opportunities to access the available quotas. Inseason actions to modify limited retention regulations is authorized under 50 CFR 660.409(b)(1)(ii).

Inseason Action #20

Description of the action: Inseason action #20 modifies the north of Cape Falcon recreational salmon fishery from Cape Alava, WA to the Queets River (La Push subarea), from a two salmon per day bag limit to two salmon per day, only one of which may be a Chinook salmon, beginning at 12:01 a.m. on Monday, July 4, 2022.

Effective date: Inseason action #20 took effect on July 4, 2022, and remains in effect until September 30, 2022.

Reason and authorization for the action: The cumulative salmon landings for the week of June 20 through June 26, 2022, in the area from Cape Alava, WA to the Queets River (La Push subarea), were 15 Chinook salmon of a 1,120 Chinook salmon guideline and 44 coho salmon of a 4,270 quota. The modification of bag limits was necessary to slow the Chinook salmon catch rates, push effort towards the ocean where catch rates of Chinook were lower, in order to maintain the season length in the La Push subarea.

The RA considered the landings of Chinook and coho salmon to date, fishery catch and effort to date, the amount of quota remaining, and the timing of the action relative to the length of the season, and determined that this inseason action was necessary to avoid exceeding the subarea quotas and guidelines set preseason and provide greater fishing opportunities. The modification of recreational bag limits is authorized under 50 CFR 660.409(b)(1)(iii).

Inseason Action #21

Description of the action: Inseason action #21 modifies the north of Cape Falcon recreational salmon fishery from the U.S/Canada border to Cape Alava, WA (Neah Bay subarea) east of the Bonilla-Tatoosh line; beginning at 12:01 a.m. on Saturday, July 2, 2022, the fishery is closed.

Effective date: Inseason action #21 took effect on July 2, 2022, and remains in effect until superseded.

Reason and authorization for the action: Suspending salmon fishing will preserve the Chinook salmon quota and may allow reopening the area later in the season when more coho salmon are expected to be present. The RA considered the landings of Chinook and coho salmon to date, fishery catch and effort to date, projected catch and effort against the amount of quota remaining, and the timing of the action relative to the length of the season, and determined that this inseason action was necessary to avoid exceeding the subarea quotas and guidelines set preseason and to sustain fishing opportunities in the area. The modification of recreational season is authorized under 50 CFR 660.409(b)(1)(i).

Inseason Action #22

Description of the action: Inseason action #22 modifies the north of Cape Falcon recreational salmon fishery from the U.S./Canada border to Cape Alava, WA (Neah Bay subarea); beginning at 12:01 a.m. on Tuesday, July 5, 2022, the fishery is closed.

Effective date: Inseason action #22 took effect on July 2, 2022, and remains in effect until superseded.

Reason and authorization for the action: Suspending salmon fishing will preserve Chinook salmon quota and allow reopening the area later in the season when more coho salmon are expected to be present. The RA considered the landings of Chinook and coho salmon to date, fishery catch and effort to date, the amount of quota remaining, and the timing of the action relative to the length of the season, and determined that this inseason action was necessary to avoid exceeding the subarea quotas and guidelines set preseason and provide fishing opportunities later in the season. The modification of recreational season is authorized under 50 CFR 660.409(b)(1)(i).

Inseason Action #23

Description of the action: Inseason #23 modifies the commercial salmon troll fishery from Humbug Mountain, OR, to the Oregon/California border (Oregon Klamath Management Zone (KMZ)). The July 2022 quota increased from 400 Chinook salmon to 687 Chinook salmon through an impact-neutral rollover of unused quota from the June 2022 commercial salmon troll fishery in the same area.

Effective date: Inseason action #23 took effect on July 8, 2022, and remains in effect until superseded.

Reason and authorization for the action: Authority for this impact-neutral rollover of uncaught quota is specified in the 2022 ocean salmon regulations (87 FR 29690, May 16, 2022). The June commercial salmon fishery had a quota of 800 Chinook salmon. Of that quota, 390 Chinook salmon were landed, leaving 410 Chinook salmon quota available to rollover to the July fishery. The Council's Salmon Technical Team calculated that the impact-neutral rollover of the remaining quota would add 287 Chinook salmon to the July quota for an adjusted quota of 687 Chinook salmon.

The RA considered the landings of Chinook salmon in the SOF commercial salmon fishery, fishery effort occurring to date, quotas set preseason, and the STT's calculations for the impact-neutral quota rollover. The RA determined that this inseason action was necessary to provide access to available Chinook salmon quota and meet management goals set preseason. The modification of quotas is authorized by 50 CFR 660.409(b)(1)(i).

Inseason Action #24

Description of the action: Inseason #24 modifies the north of Cape Falcon recreational salmon fishery from the U.S./Canada border to Cape Alava, WA, (Neah Bay subarea) west of the Bonilla-Tatoosh line; the fishery is now scheduled to reopen starting at 12:01 a.m. on Monday, July 25, 2022, through 11:59 p.m. September 30, 2022. The season will open with a daily bag limit of 2 salmon, no more than 1 of which may be a Chinook salmon. Beginning August 1, 2022, all retained coho salmon must be marked with a healed adipose fin clip, and retention of chum salmon is prohibited. All other provisions remain as described in the pre-season regulations for this portion of the subarea.

Effective date: Inseason action #24 took effect on July 25, 2022, and remains in effect until September 30, 2022.

Reason and authorization for the action: The catch quotas for recreational fisheries north of Cape falcon are 27,000 Chinook salmon and 168,000 marked coho salmon, with a Chinook salmon guideline of 6,110 and coho salmon quota of 17,470 in the Neah Bay subarea. Sufficient quota remains to reopen the area from the U.S./Canada border to Cape Alava, WA, (Neah Bay subarea) west of the Bonilla-Tatoosh line (Neah Bay subarea) to fishing.

The RA considered the landings of Chinook salmon to date, fishery catch and effort to date, the amount of quota remaining, and the timing of the action relative to the length of the season, and determined that this inseason action was necessary to avoid exceeding the subarea quotas set preseason and provide greater fishing opportunities later in the season when Chinook catch rates were anticipated to stabilize. Inseason actions to modify bag limits and fishing seasons is authorized under 50 CFR 660.409(b)(1)(i) and (iii).

Inseason Action #25

Description of the action: Inseason #25 modifies the north of Cape Falcon recreational salmon fishery from the U.S./Canada border the Cape Alava, WA (Neah Bay subarea) east of the Bonilla-Tatoosh line; the fishery is scheduled to reopen starting at 12:01 a.m. on Monday, August 1, 2022, through 11:59 p.m. September 30, 2022. The season will open with a daily bag limit of 2 salmon. All retained coho salmon must be marked with a healed adipose fin clip. Retention of Chinook salmon and chum salmon is prohibited. All other provisions remain as described in pre-season regulations for this portion of the subarea.

Effective date: Inseason action #25 takes effect on August 1, 2022, and remains in effect until September 30, 2022.

Reason and authorization for the action: The catch quotas for recreational fisheries north of Cape falcon are 27,000 Chinook salmon and 168,000 marked coho salmon, with a subarea Chinook salmon guideline of 6,110 and coho salmon quota of 17,470. Sufficient quota is anticipated to remain to reopen the area from the U.S./Canada border to Cape Alava, WA, (Neah Bay subarea) east of the Bonilla-Tatoosh line (Neah Bay subarea) to fishing.

The RA considered the landings of Chinook salmon to date, fishery catch and effort to date, the amount of quota remaining, and the timing of the action relative to the length of the season, and determined that this inseason action was necessary to avoid exceeding the subarea quotas set preseason and provide greater fishing opportunities. Inseason actions to modify bag limits and fishing seasons is authorized under 50 CFR 660.409(b)(1)(i) and (ii).

All other restrictions and regulations remain in effect as announced for the 2022 ocean salmon fisheries (87 FR 29690, May 16, 2022), as modified by previous inseason action (87 FR 41260, July 12, 2022).

The RA determined that these inseason actions were warranted based on the best available information on Pacific salmon abundance forecasts, landings to date, anticipated fishery effort and projected catch, and the other factors and considerations set forth in 50 CFR 660.409. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690, May 16, 2022), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: August 3, 2022.
Jennifer M. Wallace,
Acting Director, Office of Sustainable Fisheries, National Marine Fisheries Service.

[FR Doc. 2022-17043 Filed 8-10-22; 8:45 am]

BILLING CODE 3510-22-P